DEPARTMENT OF COMMERCE

International Trade Administration

[A-570-822]

Certain Helical Spring Lock Washers From the People's Republic of China; Final Results of Antidumping Duty Administrative Review

AGENCY: Import Administration, International Trade Administration, Department of Commerce.

ACTION: Notice of Final Results of Antidumping Administrative Duty Review.

SUMMARY: On July 10, 2002, the Department of Commerce published the preliminary results of the administrative review of the antidumping duty order on certain helical spring lock washers from the People's Republic of China. We gave interested parties an opportunity to comment. Based upon our analysis of the comments and information received, we have made changes to the margin calculations presented in the final results of the review. We find that helical spring lock washers from the People's Republic of China are not being sold in the United States below normal value by Hangzhou Spring Washer Company, Co. Ltd., also known as Zhejiang Wanxin Group Co., Ltd.

EFFECTIVE DATE: November 19, 2002.

FOR FURTHER INFORMATION CONTACT: Cynthia Thirumalai, Import Administration, International Trade Administration, U.S. Department of Commerce, 14th and Constitution Avenue, N.W., Washington, D.C. 20230; telephone (202) 482-4087.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR Part 351 (2001).

Background

On July 10, 2002, the Department published in the Federal Register the preliminary results of its administrative review of helical spring lock washers (“HSLWs”) from the People's Republic of China (“PRC”) (Certain Helical Spring Lock Washers from the People's Republic of China; Preliminary Results of Antidumping Duty Administrative Review, 67 FR 45702 (July 10, 2002) (“Preliminary Results”). We received surrogate value information from the petitioner, Shakeproof Assembly Components Division of Illinois Tool Works Inc., on July 29, 2002. The petitioner submitted a case brief on August 8, 2002. Hangzhou Spring Washer Co., Ltd., also known as Zhejiang Wanxin Group Co., Ltd. (“Hangzhou”), the respondent, submitted case and rebuttal briefs on August 8, 2002 and August 13, 2002, respectively.

The Department determined that the petitioner's case brief contained new factual information and, on August 22, 2002, the Department formally requested the new factual information submitted by petitioner in its case brief. Hangzhou was asked to comment on the new information and it did so September 3, 2002.

The Department has completed the antidumping duty administrative review in accordance with section 751 of the Act.

Scope of Order

The products covered by this review are HSLWs of carbon steel, of carbon alloy steel, or of stainless steel, heat-treated or non-heat-treated, plated or non-plated, with ends that are off- line. HSLWs are designed to: (1) function as a spring to compensate for developed looseness between the component parts of a fastened assembly; (2) distribute the load over a larger area for screws or bolts; and, (3) provide a hardened bearing surface. The scope does not include internal or external tooth washers, nor does it include spring lock washers made of other metals, such as copper.

HSLWs subject to this review are currently classifiable under subheading 7318.21.0030 of the Harmonized Tariff Schedule of the United States (“HTSUS”). Although the HTSUS subheading is provided for convenience and customs purposes, the written description of the scope of this proceeding is dispositive.

Period of Review

The period of review (“POR”) is from October 1, 2000 through September 30, 2001.

Comparisons

We calculated export price and normal value based on the same methodology used in the Preliminary Results with the following exception:

For labor, we used the regression-based wage rate for the PRC as revised in September 2002. See “Expected Wages of Selected NME Countries” located on the Internet at http://ia.ita.doc.gov/wages/00wages/00wages/htm.

In valuing the steel wire rod input, we have included certain movement charges that were omitted in the preliminary results.

Analysis of Comments Received

All issues raised in the case and rebuttal briefs by parties to this proceeding are addressed in the November 7, 2002, Issues and Decision Memorandum (“Decision Memorandum”) which is hereby adopted by this notice. Attached to this notice as an appendix is a list of the issues which parties have raised and to which we have responded in the Decision Memorandum.

Parties can find a complete discussion of all issues raised in this review and the corresponding recommendations in this public memorandum which is on file in the Central Records Unit, Room B-099 of the Department. In addition, a complete version of the Decision Memorandum can be accessed directly on the Web at http://ia.ita.doc.gov/frn/summary/list.htm. The paper copy and electronic version of the Decision Memorandum are identical in content.

Final Results of the Review

The weighted-average dumping margin for the period October 1, 2000 through September 30, 2001 is as follows:

Manufacturer/exporter | Time Period | Margin (percent)
Hang Zhou Spring Washer Co., Ltd/Zhejiang Wanxin Group Co., Ltd | 10/01/00-09/30/01 | 0.13 (de minimis)

Assessment Rates

In accordance with 19 CFR 351.212(b)(1), we have calculated importer- specific assessment rates for the merchandise subject to this review. To determine whether the duty assessment rates were de minimis, in accordance with the requirement set forth in 19 CFR 351.106(c)(2), we calculated importer-specific ad valorem rates by aggregating the dumping margins calculated for all U.S. sales to that importer and dividing this amount by the total value of the sales to that importer. Where an importer-specific ad valorem rate was greater than de minimis, we calculated a per unit assessment rate by aggregating the dumping margins calculated for all U.S. sales to that importer and dividing this amount by the total quantity sold to that importer.

All other entries of the subject merchandise during the POR will be liquidated at the antidumping duty rate in place at the time of entry.

The Department will issue appropriate assessment instructions directly to the Customs Service within 15 days of publication of these final results of review.

Furthermore, the following deposit rates will be effective upon publication of these final results for all shipments of HSLWs from the PRC entered, or withdrawn from warehouse, for consumption on or after the publication date, as provided for by section 751(a)(1) of the Act: (1) for Hangzhou, which has had a separate rate in the investigation and all reviews, no deposit will be required because the company had a de minimis (i.e., less than 0.5 percent) rate in this review; (2) for all other PRC exporters, the cash deposit rate will be the PRC-wide rate, 128.63 percent, which is the All Other PRC Manufacturers, Producers and Exporters rate from the Final Determination of Sales at Less Than Fair Value: Certain Helical Spring Lock Washers from the PRC, 58 FR 48833 (September 20, 1993); and, (3) for non-PRC exporters of subject merchandise from the PRC, the cash deposit rate will be the rate applicable to the PRC supplier of that exporter. These deposit rates shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This administrative review and notice are in accordance with sections 751(a)(1) and 777(i)(1) of the Act.

Dated: November 7, 2002.
Faryar Shirzad,
Assistant Secretary for Import Administration.

APPENDIX

List of Comments in the Issues and Decision Memorandum

Comment 1: Department's Acceptance of New Information

Comment 2: Valuation of Steel Wire Rod (SWR); Inconsistencies in Reported Data

Comment 3: Valuation of SWR; Comparison of Prices Paid by Hangzhou to PRC Import Prices

Comment 4: Valuation of SWR; Allegations that Imports into the PRC Are Dumped

Comment 5: Verification for “Good Cause”

Comment 6: Valuation of Hydrochloric Acid

Comment 7: Calculation of Factory Overhead

[FR Doc. 02-29346 Filed 11-18-02; 8:45 am]

BILLING CODE 3510-DS-S